FEDERAL COMMUNICATIONS COMMISSION

[OMB 3060-0139]

Information Collection Approved by the Office of Management and Budget

AGENCY: Federal Communications Commission.

ACTION: Notice.

SUMMARY: The Federal Communications Commission (FCC) has received Office of Management and Budget (OMB) approval for a revision of a currently approved public information collection pursuant to the Paperwork Reduction Act of 1995 (44 U.S.C. 3501-3520). An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Cathy Williams, Office of the Managing Director, at (202) 418-2918, or email: Cathy.Williams@fcc.gov.

SUPPLEMENTARY INFORMATION: The total annual reporting burdens and costs for the respondents are as follows:

OMB Control Number: 3060-0139.

OMB Approval Date: November 9, 2015.

OMB Expiration Date: November 30, 2018.

Title: Application for Antenna Structure Registration.

Form Number: FCC Form 854.

Respondents: Individuals or households, business or other for-profit entities, not-for-profit institutions and State, local or Tribal governments.

Number of Respondents and Responses: 2,400 respondents; 57,100 responses.

Estimated Time per Response: .33 hours to 2.5 hours.

Frequency of Response: On occasion reporting requirement, recordkeeping requirement and third party disclosure reporting requirement.

Obligation to Respond: Required to obtain or retain benefits. Statutory authority for this information collection is contained in Sections 1, 2, 4(i), 303, and 309(j) of the Communications Act of 1934, as amended, 47 U.S.C. 151, 152, 154(i), 303, and 309(j), Section 102(C) of the National Environmental Policy Act of 1969, as amended, 42 U.S.C. 4332(C), and Section 1506.6 of the regulations of the Council on Environmental Quality, 40 CFR 1506.6.

Total Annual Burden: 25,682 hours.

Total Annual Cost: $1,176,813.

Nature and Extent of Confidentiality: Respondents may request materials or information submitted to the Commission be withheld from public inspection under 47 CFR 0.459 of the Commission's rules.

Privacy Act Impact Assessment: Yes. This information collection contains personally identifiable information on individuals which is subject to the Privacy Act of 1974. Information on the FCC Form 854 is maintained in the Commission's System of Records, FCC/WTB-1, “Wireless Services Licensing Records.” These licensee records are publicly available and routinely used in accordance of subsection b of the Privacy Act, 5 U.S.C. 552a(b), as amended. Taxpayer Identification Numbers (TINs) and materials that are afforded confidential treatment pursuant to a request made under 47 CFR 0.459 of the Commission's rules will not be available for public inspection.

Needs and Uses: The purpose of FCC Form 854 is to, among other things, register antenna structures (radio towers) that are used for communication services regulated by the Commission and make changes to existing antenna structure registrations or pending applications for registration. As discussed below, the Commission revised FCC Form 854 to implement measures adopted in a Report and Order, FCC 14-117, and sought Office of Management and Budget (OMB) approval for this revised information collection.

The Commission revised this information collection due to the adoption of FCC 14-117, Report and Order, which streamlined and eliminated outdated provisions of the Commission's Part 17 rules governing the construction, marking, and lighting of antenna structures. The changes to this collection are necessary to implement two of the updates adopted in the Report and Order. The first, 17.4(j), requires owners of certain antenna structures to file FCC Form 854 with the Commission if there is any change or correction in the overall height of one foot or greater or coordinates of one second or greater in longitude or latitude of a registered antenna structure. This change will increase the number of these forms filed, or responses for this collection, by approximately 100 per annum. The second change, found in 17.4(b), requires owners to note on FCC Form 854 that the registration is voluntary if the antenna structure is otherwise not required to be registered under section 17.4. For this, an additional checkbox will be added to Form 854, but this revision will not increase the collection's average burden per response. These changes will enable the Commission to further modernize its rules while adhering to its statutory responsibility to prevent antenna structures from being hazards to air navigation.

Federal Communications Commission.
Gloria J. Miles,
Federal Register Liaison Officer, Office of the Secretary.

[FR Doc. 2016-08217 Filed 4-8-16; 8:45 am]

BILLING CODE 6712-01-P